DEPARTMENT OF COMMERCE

International Trade Administration

[C-489-840]

Common Alloy Aluminum Sheet From the Republic of Türkiye: Final Results of Countervailing Duty Administrative Review; 2022

AGENCY: Enforcement and Compliance, International Trade Administration, Department of Commerce.

SUMMARY: The U.S. Department of Commerce (Commerce) determines that countervailable subsidies are being provided to producers/exporters of common alloy aluminum sheet (aluminum sheet) from the Republic of Türkiye (Türkiye) during the period of review (POR) January 1, 2022, through December 31, 2022.

DATES: Applicable November 14, 2024.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On May 3, 2024, Commerce published the preliminary results of this administrative review.¹ On July 22, 2024, Commerce tolled certain deadlines in this administrative proceeding by seven days.² On July 31, 2024, we extended the time limit for these final results to November 6, 2024.³ For a description of the events that occurred since the Preliminary Results, see the Issues and Decision Memorandum.⁴

¹ See Common Alloy Aluminum Sheet from the Republic of Türkiye: Preliminary Results of the Countervailing Duty Administrative Review; 2022, 89 FR 36754 (May 3, 2024) (Preliminary Results), and accompanying Preliminary Decision Memorandum.

² See Memorandum, “Tolling of Deadlines for Antidumping and Countervailing Duty Proceedings,” dated July 22, 2024.

³ See Memorandum, “Extension of Deadline for Final Results of Countervailing Duty Administrative Review,” dated July 31, 2024.

⁴ See Memorandum, “Issues and Decision Memorandum for the Final Results of the Administrative Review of the Countervailing Duty Order on Common Alloy Aluminum Sheet from the Republic of Türkiye; 2022,” dated concurrently with, and hereby adopted by, this notice (Issues and Decision Memorandum).

Scope of the Order ⁵

⁵ See Common Alloy Aluminum Sheet from Bahrain, India, and the Republic of Turkey: Countervailing Duty Orders, 86 FR 22144 (April 27, 2021) (Order).

The products covered by the Order are aluminum sheet from Türkiye. For a full description of the scope of the Order, see the Issues and Decision Memorandum.

Analysis of Comments Received

All issues raised in the parties' briefs are addressed in the Issues and Decision Memorandum. A list of the issues addressed is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on comments received from interested parties and record information, we made certain changes from the Preliminary Results for Assan Alüminyum Sanayi ve Ticaret A.S. and Kibar Dış Ticaret A.Ş. (Kibar Dis) (collectively, Assan) and the companies not selected for individual review. These changes are explained in the Issues and Decision Memorandum.

Methodology

Commerce conducted this administrative review in accordance with section 751(a)(1)(A) of the Tariff Act of 1930, as amended (the Act). For each subsidy program found countervailable, Commerce finds that there is a subsidy, i.e., a government-provided financial contribution that gives rise to a benefit to the recipient, and that the subsidy is specific.⁶ For a description of the methodology underlying all of Commerce's conclusions, see the Issues and Decision Memorandum.

⁶ See sections 771(5)(B) and (D) of the Act regarding financial contribution; section 771(5)(E) of the Act regarding benefit; and section 771(5A) of the Act regarding specificity.

Companies Not Selected for Individual Review

The Act and Commerce's regulations do not directly address the establishment of a rate to be applied to companies not selected for individual examination when Commerce limits its examination in an administrative review pursuant to section 777A(e)(2) of the Act. Generally, Commerce looks to section 705(c)(5) of the Act, which provides instructions for determining the all-others rate in an investigation, for guidance when calculating the rate for companies that were not selected for individual examination in an administrative review. Section 777A(e)(2) of the Act provides that “the individual countervailable subsidy rates determined under subparagraph (A) shall be used to determine the all-others rate under section 705(c)(5) {of the Act}.” Under section 705(c)(5)(A) of the Act, the all-others rate is normally “an amount equal to the weighted average of the countervailable subsidy rates established for exporters and producers individually investigated, excluding any zero or de minimis countervailable subsidy rates, and any rates determined entirely {on the basis of facts available}.”

Accordingly, to determine the rate for companies not selected for individual examination, Commerce's practice is to weight average the net subsidy rates for the selected mandatory respondents, excluding rates that are zero, de minimis, or based entirely on facts available.⁷ In this case, Commerce found a de minimis rate for Teknik. Therefore, the only rate that is not zero, de minimis or based entirely on facts otherwise available is the rate calculated for Assan. Consequently, the rate calculated for Assan is also assigned as the rate for the non-selected companies.

⁷ See, e.g., Certain Pasta from Italy: Final Results of the 13th (2008) Countervailing Duty Administrative Review,75 FR 37386, 37387 (June 29, 2010).

The companies for which a review was requested, which were not selected as mandatory respondents or found to be cross-owned with a mandatory respondent, are: ASAS Aluminyum Sanayi ve Ticaret A.S.; Kibar Dis Ticaret A.S; Kibar Holding A.S.; Kibar Americas, Inc.; P.M.S. Metal Profil Aluminum Sanayi Ve Ticaret A.S.; and TAC Metal Ticaret A.S.

Final Results of Review

We determine that the following net countervailable subsidy rates exist for the period January 1, 2022, through December 31, 2022:

⁸ This rate is applicable to Assan and its cross-owned companies Kibar Holding A.S., and Kibar Dış Ticaret A.S.

Producer/exporter | Subsidy rate (percent ad valorem)
Assan Alüminyum Sanayi ve Ticaret A.S.⁸ | 1.14.
Teknik Aluminyum Sanayi A.S | 0.19 (de minimis).
Non-Selected Companies Under Review | 1.14.

Disclosure

Commerce intends to disclose the calculations and analysis performed for these final results of review within five days of the date of publication of this notice in the Federal Register, in accordance with 19 CFR 351.224(b).

Assessment Rates

Pursuant to sections 751(a)(1) and (a)(2)(C) of the Act and 19 CFR 351.212(b), Commerce shall determine, and U.S. Customs and Border Protection (CBP) shall assess, countervailing duties on all appropriate entries of subject merchandise in accordance with the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) and (a)(2)(C) of the Act, Commerce also intends to instruct CBP to collect cash deposits of estimated countervailing duties in the amounts shown for the companies listed above on shipments of subject merchandise entered, or withdrawn from warehouse, for consumption on or after the date of publication of the final results of this administrative review. Because the rate calculated for Teknik is de minimis, no cash deposit will be required on shipments of the subject merchandise entered or withdrawn from warehouse, for consumption on or after the date of publication of the final results of this review. For all non-reviewed firms, we will instruct CBP to continue to collect cash deposits of estimated countervailing duties at the all-others rate or the most recent company-specific rate applicable to the company, as appropriate. These cash deposit requirements, effective upon publication of these final results, shall remain in effect until further notice.

Administrative Protective Order

This notice also serves as a final reminder to parties subject to the administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing the final results and publishing this notice in accordance with sections 751(a)(1) and 777(i)(1) of the Act, and 19 CFR 351.221(b)(5).

Dated: November 6, 2024.
Abdelali Elouaradia,
Deputy Assistant Secretary for Enforcement and Compliance.

Appendix

List of Topics Discussed in the Issues and Decision Memorandum

I. Summary

II. Background

III. Scope of the Order

IV. Changes Since the Preliminary Results

V. Subsidies Valuation Information

VI. Analysis of Programs

VII. Discussion of the Issues

Comment 1: Whether Commerce Should Revise its Analysis of the Bank and Insurance Transaction Tax

Comment 2: Whether Commerce Should Revise Certain Assan's Sale Denominators

Comment 3: Whether Commerce Omitted Two Countervailable Subsidies Received by Assan

Comment 4: Whether to Defer Examination of Two Subsidy Programs

Comment 5: Whether to Revise Assan's Ad Valorem Rate

Comment 6: Whether to Recalculate Rediscount Loans Benefit

VIII. Recommendation

[FR Doc. 2024-26512 Filed 11-13-24; 8:45 am]

BILLING CODE 3510-DS-P